DEPARTMENT OF THE INTERIOR

Office of the Secretary

[FWS-HQ-FAC-2018-N073; FF09F42300-FVWF97920900000-XXX]

Sport Fishing and Boating Partnership Council; Charter Renewal

AGENCY: Office of the Secretary, Interior.

ACTION: Notice of renewal.

SUMMARY: This notice is published in accordance with the Federal Advisory Committee Act. Following consultation with the General Services Administration, the Secretary of the Interior (Secretary) has renewed the Sport Fishing and Boating Partnership Council (Council) charter for 2 years.

FOR FURTHER INFORMATION CONTACT: Linda Friar, Designated Federal Officer, U.S. Fish and Wildlife Service, 703-358-2056, linda_friar@fws.gov.

SUPPLEMENTARY INFORMATION: The Secretary has renewed the Council charter for 2 years. The Council advises the Secretary, through the Director, on aquatic conservation endeavors that benefit recreational fishery resources and recreational boating and that encourage partnerships among industry, the public, and government. The Council will conduct its operations in accordance with the provisions of the Federal Advisory Committee Act (5 U.S.C. Appendix 2.). The Council will function solely as an advisory body.

Certification: I hereby certify that the Sport Fishing and Boating Partnership Council is necessary and is in the public interest in connection with the performance of duties imposed on the Department of the Interior.

Authority: 5 U.S.C. Appendix 2.

Dated: June 20, 2018.
Ryan Zinke,
Secretary of the Interior.

[FR Doc. 2018-14252 Filed 7-2-18; 8:45 am]

BILLING CODE 4333-15-P